NATIONAL SCIENCE FOUNDATION

Agency Information Collection Activities: Comment Request; National Science Foundation (NSF) Polar Media Program Application Form for the Arctic and the U.S. Antarctic Program

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by September 20, 2022 to be assured consideration. Comments received after that date will be considered to the extent practicable. Send comments to address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: National Science Foundation (NSF) Polar Media Program Application Form for the Arctic and the U.S. Antarctic Program (USAP).

OMB Control No.: 3145-New.

Expiration Date of Approval: Not applicable.

Abstract: The purpose of the National Science Foundation (NSF) Polar Media Program is to raise awareness of the United States' scientific and operational activities in the Arctic region and in Antarctica and the Southern Ocean. Members of the media can apply and be selected for the program whose reporting targets these activities and covers multiple media channels that will reach large and targeted audiences. This program supports the President's Memorandum Regarding Antarctica, Memorandum 6646, that “The United States Antarctic Program shall be maintained at a level providing an active and influential presence in Antarctica designed to support the range of U.S. Antarctic interests.”

The NSF Polar Media Program Application Form will collect information from media groups interested in participating in the program in response to an official yearly media call (example of a previous media call: https://www.nsf.gov/news/news_summ.jsp?cntn_id=295843.) Information collected will include media contact information (first and last name, occupation, organization and organization website URL and reach, social media channel information, passport number, country, date of issuance, email address, mailing address, and phone number) in addition to organization travel desires, proposal information and specific criteria related to the proposal. Information collected will be the basis of selection for participating in the program.

Respondents: Individuals.

Estimated Number of Annual Respondents: 20.

Burden on the Public: Estimated 45 minutes to fill out the form, including the collection of data to fill in the fields. This information should be readily available for most interested parties. The estimated burden time is 15 hours.

Dated: July 19, 2022.
Suzanne H. Plimpton,
Reports Clearance Officer, National Science Foundation.

[FR Doc. 2022-15753 Filed 7-21-22; 8:45 am]

BILLING CODE 7555-01-P